NATIONAL SCIENCE FOUNDATION

Notice of Permits Issued Under the Antarctic Conservation Act of 1978

AGENCY: National Science Foundation.

ACTION: Notice of permits issued under the Antarctic Conservation of 1978, Pub. L. 95-541.

SUMMARY: The National Science Foundation (NSF) is required to publish notice of permits issued under the Antarctic Conservation Act of 1978. This is the required notice.

FOR FURTHER INFORMATION CONTACT: Nadene G. Kennedy, Permit Office, Office of Polar Programs, Rm. 755, National Science Foundation, 4201 Wilson Boulevard, Arlington, VA 22230.

SUPPLEMENTARY INFORMATION: On July 17, 2001, the National Science Foundation published a notice in the Federal Register of a permit application received. Permits were issued on August 30, 2001 to:

Jerry L. Mullins—Permit No. 2002-001.

Robert L. Pitman—Permit No. 2002-002.

Randall Davis—Permit No. 2002-003.

Nadene G. Kennedy,
Permit Officer.

[FR Doc. 01-22901 Filed 9-11-01; 8:45 am]

BILLING CODE 7555-01-M